DEPARTMENT OF ENERGY

Federal Energy Regulatory Commission

[Docket No. EG00-148-000, et al.]

Electric Energy, Inc., et al.; Electric Rate and Corporate Regulation Filings

July 10, 2000.

Take notice that the following filings have been made with the Commission:

1. Electric Energy, Inc.

[Docket No. EG00-148-000]

Take notice that on July 7, 2000, Electric Energy, Inc. (EEInc), 2100 Portland Road, P.O. Box 165, Joppa, IL 62953, filed with the Federal Energy Regulatory Commission an amendment to its application for determination of exempt wholesale generator status pursuant to Part 365 of the Commission's Regulations.

Comment date: July 24, 2000, in accordance with Standard Paragraph E at the end of this notice. The Commission will limit its consideration of comments to those that concern the adequacy or accuracy of the application.

2. Allegheny Energy Service Corporation, on behalf of Allegheny Energy Supply Company, LLC

[Docket No. ER00-3066-000]

Take notice that on July 3, 2000, Allegheny Energy Service Corporation on behalf of Allegheny Energy Supply Company, LLC (Allegheny Energy Supply), tendered for filing the First Revised Service Agreement No. 20 under the Market Rate Tariff to incorporate a Netting Agreement with Cinergy Services, Inc. into the tariff provisions.

Allegheny Energy Supply requests a waiver of notice requirements to make the Netting Agreement effective as of June 5, 2000 or such other date as ordered by the Commission.

Copies of the filing have been provided to the Public Utilities Commission of Ohio, the Pennsylvania Public Utility Commission, the Maryland Public Service Commission, the Virginia State Corporation Commission, the West Virginia Public Service Commission, and all parties of record.

Comment date: July 24, 2000, in accordance with Standard Paragraph E at the end of this notice.

3. Allegheny Energy Service Corporation, on behalf of Monongahela Power Company Potomac Edison Company, and West Penn Power Company (Allegheny Power)

[Docket No. ER00-3067-000]

Take notice that on July 3, 2000, Allegheny Energy Service Corporation on behalf of Monongahela Power Company, Potomac Edison Company and West Penn Power Company (Allegheny Power), tendered for filing Service Agreement No. 314 to add Cinergy Services, Inc., to Allegheny Power Open Access Transmission Service Tariff which has been accepted for filing by the Federal Energy Regulatory Commission in Docket No. ER96-58-000.

The proposed effective date under the Service Agreement is June 30, 2000 or a date ordered by the Commission.

Copies of the filing have been provided to the Public Utilities Commission of Ohio, the Pennsylvania Public Utility Commission, the Maryland Public Service Commission, the Virginia State Corporation Commission, and the West Virginia Public Service Commission.

Comment date: July 24, 2000, in accordance with Standard Paragraph E at the end of this notice.

4. California Independent System Operator Corporation

[Docket No. ER00-3070-000]

Take notice that on July 5, 2000, the California Independent System Operator Corporation, tendered for filing a Scheduling Coordinator Agreement between the ISO and the City of Glendale for acceptance by the Commission.

The ISO states that this filing has been served on the City of Glendale and the California Public Utilities Commission.

The ISO is requesting waiver of the 60-day notice requirement to allow the Scheduling Coordinator Agreement to be made effective as of June 21, 2000.

Comment date: July 26, 2000, in accordance with Standard Paragraph E at the end of this notice.

5. California Independent System Operator Corporation

[Docket No. ER00-3071-000]

Take notice that on July 5, 2000, the California Independent System Operator Corporation, tendered for filing a Meter Service Agreement for ISO Metered Entities between the ISO and Gas Recovery Systems, Inc., for acceptance by the Commission.

The ISO states that this filing has been served on Gas Recovery Systems, Inc., and the California Public Utilities Commission.

The ISO is requesting waiver of the 60-day notice requirement to allow the Meter Service Agreement for ISO Metered Entities to be made effective June 12, 2000.

Comment date: July 26, 2000, in accordance with Standard Paragraph E at the end of this notice.

6. Otter Tail Power Company

[Docket No. ER00-3072-000]

Take notice that on July 5, 2000, Otter Tail Power Company (OTP), tendered for filing a Service Agreement between OTP and the Energy Authority, Inc. (Energy Authority). The Service Agreement allows Energy Authority to purchase capacity and/or energy under OTP's Coordination Sales Tariff.

Comment date: July 26, 2000, in accordance with Standard Paragraph E at the end of this notice.

7. Entergy Services, Inc.

[Docket No. ER00-3073-000]

Take notice that on July 5, 2000, Entergy Services, Inc., on behalf of Entergy Gulf States, Inc., tendered for filing an Interconnection and Operating Agreement with Formosa Plastics Corporation (Formosa), and a Generator Imbalance Agreement with Formosa.

Comment date: July 26, 2000, in accordance with Standard Paragraph E at the end of this notice.

8. Entergy Services, Inc.

[Docket No. ER00-3075-000]

Take notice that on July 5, 2000, Entergy Services, Inc., on behalf of Entergy Gulf States, Inc., tendered for filing an Interconnection and Operating Agreement with CITGO Petroleum Corporation (CITGO), and a Generator Imbalance Agreement with CITGO.

Comment date: July 26, 2000, in accordance with Standard Paragraph E at the end of this notice.

9. Tucson Electric Power Company

[Docket No. ER00-771-004]

Take notice that on July 3, 2000, Tucson Electric Power Company (Tucson), tendered for filing a compliance filing with respect to the Commission's May 19, 2000, Commission Order concerning the above listed dockets.

Comment date: July 26, 2000, in accordance with Standard Paragraph E at the end of this notice.

10. Madison Gas and Electric Company

[Docket No. ER00-3069-000]

Take notice that on July 3, 2000, Madison Gas and Electric Company (MGE), tendered for filing service agreements under MGE's Market-Based Power Sales Tariff with:

• Rainbow Energy Marketing Corporation

• Reliant Energy Services, Inc.

MGE requests the agreements be effective the date of filing.

Comment date: July 24, 2000, in accordance with Standard Paragraph E at the end of this notice.

11. PJM Interconnection, L.L.C.

[Docket No. ER99-3393-003]

Take notice that on July 5, 2000, Jersey Central Power & Light Company (doing business as GPU Energy), tendered for filing an amendment to the Refund Report originally submitted on May 30, 2000 in this docket.

Comment date: July 26, 2000, in accordance with Standard Paragraph E at the end of this notice.

12. TransÉnergie U.S. Ltd

[Docket No. ER00-1-002]

Take notice that on July 3, 2000, TransÉnergie US Ltd., tendered for filing, in compliance with the Commission's Order of June 1, 2000, 91 FERC ¶ 61,230 (2000), a report specifying the procedures for customers to reassign their firm transmission rights over the Cross Sound Cable Interconnector and a description of the procedures for implementing the Standards of Conduct required under Order No. 889.

Copies of the filing have been served on the parties to this proceeding.

Comment date: July 24, 2000, in accordance with Standard Paragraph E at the end of this notice.

13. Central Power and Light Company Public Service Company of Oklahoma Southwestern Electric Power Company West Texas Utilities Company

[Docket No. ER00-2100-001]

Take notice that on July 5, 2000, Central Power and Light Company, Public Service Company of Oklahoma, Southwestern Electric Power Company and West Texas Utilities Company in compliance with Commission staff request tendered for filing additional information in the above-captioned proceeding.

Comment date: July 26, 2000, in accordance with Standard Paragraph E at the end of this notice.

14. Virginia Electric and Power Company

[Docket No. ER00-2739-001]

Take notice that on July 5, 2000, Virginia Electric and Power Company (Virginia Power), tendered for filing a tariff sheet numbered “Original Sheet No. 1” that is blank and marked “Reserved” under Virginia Electric and Power Company, FERC Electric Tariff, Second Revised Volume No. 5 in compliance with Designation of Electric Rate Schedule Sheets, 90 FERC ¶ 61,352 (2000).

Virginia Power respectfully requested that the tariff sheet be accepted for filing as of June 7, 2000.

Copies of the filing were served upon the public utility's jurisdictional customers, Virginia State Corporation Commission and North Carolina Utilities Commission.

Comment date: July 26, 2000, in accordance with Standard Paragraph E at the end of this notice.

15. Carolina Power & Light Company

[Docket No. ER00-2741-001]

Take notice that on July 5, 2000, Carolina Power & Light Company (CP&L), tendered for filing a title page with no pagination and a tariff sheet numbered “Original Sheet No. 1” that is blank and marked “Reserved” under Carolina Power & Light Company, FERC Electric Tariff, Second Revised Volume No. 3 in compliance with Designation of Electric Rate Schedule Sheets, 90 FERC ¶ 61,352 (2000).

CP&L respectfully requested that the sheets be accepted for filing as of June 7, 2000.

Copies of the filing were served upon the public utility's jurisdictional customers, North Carolina Utilities Commission and South Carolina Public Service Commission.

Comment date: July 26, 2000, in accordance with Standard Paragraph E at the end of this notice.

16. Wisconsin Energy Corporation Operating Companies

[Docket No. ER00-2763-001]

Take notice that on July 5, 2000, Wisconsin Energy Corporation Operating Companies (Wisconsin Energy), tendered for filing a title page with the correct designation and a tariff sheet numbered “Original Sheet No. 1” that is blank and marked “Reserved” under Wisconsin Energy Corporation Operating Companies, FERC Electric Tariff, First Revised Volume No. 1 in compliance with Designation of Electric Rate Schedule Sheets, 90 FERC ¶ 61,352 (2000).

Wisconsin Energy requested that the sheets be accepted for filing as of June 7, 2000.

Copies of the filing were served upon the public utility's jurisdictional customers, Public Service Commission of Wisconsin and Michigan Public Service Commission.

Comment date: July 26, 2000, in accordance with Standard Paragraph E at the end of this notice.

17. Wisconsin Electric Power Company

[Docket No. ER00-2838-001]

Take notice that on July 5, 2000, Wisconsin Electric Power Company tendered for filing an amendment to its FERC Electric Tariff No. 1, Wholesale Power Service “ Schedule W. The amendment provides for the addition of Sheet No. 1, marked “Reserved.”

Copies of the filing were served upon the public utility's jurisdictional customers, Public Service Commission of Wisconsin and Michigan Public Service Commission.

Comment date: July 26, 2000, in accordance with Standard Paragraph E at the end of this notice.

18. FirstEnergy System

[Docket No. ER00-3064-000]

Take notice that on July 3, 2000, FirstEnergy System tendered for filing Service Agreements to provide Firm Point-to-Point Transmission Service for The Legacy Energy Group, LLC , the Transmission Customer. Services are being provided under the FirstEnergy System Open Access Transmission Tariff submitted for filing by the Federal Energy Regulatory Commission in Docket No. ER97-412-000.

The proposed effective date under this Service Agreement is June 30, 2000 for the above mentioned Service Agreement in this filing.

Comment date: July 24, 2000, in accordance with Standard Paragraph E at the end of this notice.

19. FirstEnergy System

[Docket No. ER00-3065-000]

Take notice that on July 3, 2000, FirstEnergy System tendered for filing a Service Agreement to provide Non-Firm Point-to-Point Transmission Service for The Legacy Energy Group, LLC, the Transmission Customer. Services are being provided under the FirstEnergy System Open Access Transmission Tariff submitted for filing by the Federal Energy Regulatory Commission in Docket No. ER97-412-000.

The proposed effective date under this Service Agreement is June 30, 2000, for the above mentioned Service Agreement in this filing.

Comment date: July 24, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-17997 Filed 7-14-00; 8:45 am]

BILLING CODE 6717-01-U